DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC) announce the following meeting of the aforementioned committee.

Time and Date: 2:00 p.m.-4:30 p.m. EDT, August 13, 2014.

Place: Teleconference.

Status: This meeting is open to the public, limited only by the availability of telephone ports and webinar.

Participants can join the event directly at: https://www.mymeetings.com/nc/join.php?i=PW7936898&p=5994905&t=c. USA Telephone Dial-in number: 1-800-369-1780. Participant passcode: 5994905 or URL: https://www.mymeetings.com/nc/join/.

Conference number: PW7936898.

Audience passcode: 5994905.

Purpose: The committee is charged with advising the Director, CDC, on the appropriate use of immunizing agents. In addition, under 42 U.S.C. 1396s, the committee is mandated to establish and periodically review and, as appropriate, revise the list of vaccines for administration to vaccine-eligible children through the Vaccines for Children (VFC) program, along with schedules regarding the appropriate periodicity, dosage, and contra-indications applicable to the vaccines. Further, under provisions of the Affordable Care Act, at section 2713 of the Public Health Service Act, immunization recommendations of the ACIP that have been adopted by the Director of the Centers for Disease Control and Prevention must be covered by applicable health plans.

Matters for Discussion: The agenda will include discussions on: Use of 13-valent pneumococcal conjugate vaccine and 23-valent pneumococcal polysaccharide vaccine in adults 65 years of age and older. A recommendation vote is scheduled. Time will be available for public comment.

Agenda items are subject to change as priorities dictate.

Contact Person for More Information: Stephanie B. Thomas, National Center for Immunization and Respiratory Diseases, CDC, 1600 Clifton Road, NE., MS-A27, Atlanta, Georgia 30333, telephone 404/639-8836; Email ACIP@CDC.GOV.

The Director, Management Analysis and Services Office, has been delegated the authority to sign Federal Register notices pertaining to announcements of meetings and other committee management activities for both the Centers for Disease Control and Prevention and the Agency for Toxic Substances and Disease Registry.

Elaine Baker,
Director, Management Analysis and Services Office, Centers for Disease Control and Prevention.

[FR Doc. 2014-17057 Filed 7-18-14; 8:45 am]

BILLING CODE 4160-18-P